DEPARTMENT OF ENERGY

[FE Docket Nos. 01-16-NG, 01-60-NG, 02-01-NG, 01-36-NG, 02-02-NG, and 00-100-NG]

Office of Fossil Energy; Cinergy Marketing & Trading, LP (Formerly Cinergy Marketing & Trading, LLC), Cinergy Marketing & Trading, LP (Formerly Cinergy Marketing & Trading, LLC), Texaco Energy Marketing L.P., TXU Energy Trading Company LP (Formerly TXU Energy Trading Company), EPCOR Merchant and Capital (US) Inc., IDACORP Energy L.P. (Formerly IDACORP Energy Solutions L.P.); Orders Granting and Transferring Authority to Import and Export Natural Gas

AGENCY: Office of Fossil Energy, DOE.

ACTION: Notice of orders.

SUMMARY: The Office of Fossil Energy (FE) of the Department of Energy gives notice that during January 2002, it issued Orders granting and transferring authority to import and export natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on February 5, 2002.
Yvonne Caudillo,
Acting Manager, Natural Gas Regulation, Office of Natural Gas & Petroleum Import & Export Activities, Office of Fossil Energy.

Appendix—Orders Granting and Transferring Import/Export Authorizations
Order No. | Date issued | Importer/exporter FE docket No. | Import volume | Export volume | Comments
1679-A | 1-7-02 | Cinergy Marketing & Trading, LP (Formerly Cinergy Marketing & Trading, LLC) 01-16-NG |  |  | Transfer of blanket import and export authority.
1731-A | 1-10-02 | Cinergy Marketing & Trading, LP (Formerly Cinergy Marketing & Trading, LLC) 01-60-NG |  |  | Transfer of blanket import and export authority.
1753 | 1-16-02 | Texaco Energy Marketing L.P. 02-01-NG | 120 Bcf |  | Import natural gas from Canada, beginning on January 21, 2002, and extending through January 20, 2004.
1699-A | 1-17-02 | TXU Energy Trading Company LP (Formerly TXU Energy Trading Company) 01-36-NG |  |  | Transfer of blanket import and export authority.
1754 | 1-25-02 | EPCOR Merchant and Capital (US) Inc. 02-02-NG | 22 Bcf | 33 Bcf | Import and export natural gas from and to Canada, beginning on January 25, 2002, and extending through January 24, 2004.
1633-A | 01-28-02 | IDACORP Energy L.P. (Formerly IDACORP Energy Solutions LP.) 00-100-NG |  |  | Transfer of blanket import and export authority.

[FR Doc. 02-3890 Filed 2-15-02; 8:45 am]

BILLING CODE 6450-01-P